POSTAL REGULATORY COMMISSION

[Docket Nos. MC2022-37 and CP2022-44; Order No. 6089]

Mail Classification Schedule

AGENCY: Postal Regulatory Commission.

ACTION: Notice.

SUMMARY: The Commission is acknowledging a recent Postal Service filing concerning classification changes to the Mail Classification Schedule related to Inbound International Tracked Delivery Service. This document informs the public of the filing, invites public comment, and takes other administrative steps.

DATES: Comments are due: January 18, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

IIII. Ordering Paragraphs

I. Introduction

In accordance with 39 U.S.C. 3642 and 39 CFR 3040.130 through 39 CFR 3040.135, the Postal Service filed a request and associated supporting information to add Inbound International Tracked Delivery Service (IITDS) to the competitive product list.¹ The Postal Service also gave notice pursuant to 39 U.S.C. 3632(b)(3) and 39 CFR 3035.105 that the Governors established classifications and rates not of general applicability for IITDS. Request at 1. To support its Request, the Postal Service filed a copy of the Governors' Decision authorizing the product, proposed changes to the Mail Classification Schedule, a Statement of Supporting Justification, a certification of compliance with 39 U.S.C. 3633(a), and an application for non-public treatment of certain materials. Id. at 1-2. It also filed supporting financial workpapers. Id. The Postal Service intends for the new service and rates to take effect on April 1, 2022. Id. at 4.

¹ Request of USPS to Add Inbound International Tracked Delivery Service to the Competitive Product List, Notice of Establishment of Classifications and Rates Not of General Applicability, and Application for Non-Public Treatment of Materials, January 7, 2022 (Request).

The Postal Service seeks to add IITDS to the competitive product list as part of the International Ancillary Services product. Id. at 3, Attachment 4. The prices for IITDS are fixed by the Universal Postal Union (UPU) and will be set at 0.4 Special Drawing Rights (SDR) per item for the provision of inbound tracked delivery services with up to an additional 0.75 SDR per item on the basis of performance of electronic transmission of tracking information. Id. at 3. The Postal Service states that IITDS provides foreign postal operators UPU default rates for the tracked service and that IITDS' inclusion on the competitive product list would not preclude the Postal Service from exchanging tracked items with foreign postal operators pursuant to negotiated rates set forth in multilateral or bilateral agreements. Id. at 3-4.

II. Notice of Commission Action

The Commission establishes Docket Nos. MC2022-37 and CP2022-44 to consider the Request pertaining to the proposed addition of IITDS to the competitive product list. The Commission invites comments on whether the Postal Service's filings in the captioned dockets are consistent with the policies of 39 U.S.C. 3632, 3633, or 3642, 39 CFR part 3035, and 39 CFR part 3040, subpart B. Comments are due no later than January 18, 2022. The public portions of these filings can be accessed via the Commission's website (http://www.prc.gov). The Commission appoints Kenneth R. Moeller to serve as Public Representative in these dockets.

III. Ordering Paragraphs

It is ordered:

1. The Commission establishes Docket Nos. MC2022-37 and CP2022-44 to consider the matters raised in each docket by the Request of USPS to Add Inbound International Tracked Delivery Service to the Competitive Product List, Notice of Establishment of Classifications and Rates Not of General Applicability, and Application for Non-Public Treatment of Materials, filed January 7, 2022.

2. Pursuant to 39 U.S.C. 505, Kenneth R. Moeller is appointed to serve as an officer of the Commission to represent the interests of the general public in these proceedings (Public Representative).

3. Comments are due no later than January 18, 2022.

4. The Secretary shall arrange for publication of this order in the Federal Register.

By the Commission.
Erica A. Barker,
Secretary.

[FR Doc. 2022-00626 Filed 1-12-22; 8:45 am]

BILLING CODE 7710-FW-P